DEPARTMENT OF JUSTICE

Drug Enforcement Administration

Importer of Controlled Substances; Notice of Registration

By Notice dated March 29, 2005 and published in the Federal Register on April 6, 2005, (70 FR 17473-17474), Sigma Aldrich Corporation, 3500 Dekalb Street, St. Louis, Missouri 63118, made application by renewal to the Drug Enforcement Administration (DEA) to be registered as an importer of the basic classes of controlled substances listed in Schedules I and II:

Drug | Schedule
Cathinone (1235) | I
Methcathinone (1237) | I
Aminorex (1585) | I
Gamma Hydroxybutyric Acid (2010) | I
Methaqualone (2565) | I
Ibogaine (7260) | I
Lysergic acid diethylamide (7315) | I
Mescaline (7381) | I
4-Bromo-2,5-dimethoxy-amphetamine (7391) | I
4-Bromo-2,5-dimethoxyphenethylamine (7392) | I
2,5-Dimethoxyamphetamine (7396) | I
3,4-Methylenedioxyamphetamine (7400) | I
N-Hydroxy-3,4-methylenedioxyamphetamine (7402) | I
3,4-Methylenedioxy-N-ethylamphetamine (7404) | I
3,4-Methylenedioxymethamphetamine (MDMA) (7405) | I
4-Methoxyamphetamine (7411) | I
Bufotenine (7433) | I
Psilocyn (7438) | I
Benzylpiperazine (BZP) (7493) | I
Heroin (9200) | I
Normorphine (9313) | I
Etonitazene (9624) | I
Amphetamine (1100) | II
Methamphetamine (1105) | II
Methylphenidate (1724) | II
Amobarbital (2125) | II
Pentobarbital (2270) | II
Secobarbital (2315) | II
Glutethimide (2550) | II
Phencyclidine (7471) | II
Cocaine (9041) | II
Codeine (9050) | II
Diprenorphine (9058) | II
Oxycodone (9143) | II
Hydromorphone (9150) | II
Ecgonine (9180) | II
Ethylmorphine (9190) | II
Hydrocodone (9193) | II
Levorphanol (9220) | II
Meperidine (9230) | II
Methadone (9250) | II
Dextropropoxyphene, bulk (non-dosage forms) (9273) | II
Morphine (9300) | II
Thebaine (9333) | II
Opium powdered (9639) | II
Oxymorphone (9652) | II
Fentanyl (9801) | II

The company plans to import the listed controlled substances for drug testing and analysis.

Following the Notice of Application publication on April 6, 2005, (70 FR 17473-17474), Sigma Aldrich Corporation, 3500 Dekalb Street, St. Louis, Missouri 63118, requested a company name change to Sigma Aldrich Manufacturing LLC. DEA conducted a full investigation and inspection of the company which was found to be in compliance with all required regulations.

No comments or objections have been received. DEA has considered the factors in 21 U.S.C. 823(a) and 952(a) and determined that the registration of Sigma Aldrich Corporation to import the basic classes of controlled substances is consistent with the public interest and with United States obligations under international treaties, conventions, or protocols in effect on May 1, 1971, at this time. DEA has investigated Sigma Aldrich Corporation to ensure that the company's registration is consistent with the public interest. The investigation has included inspection and testing of the company's physical security systems, verification of the company's compliance with state and local laws, and a review of the company's background and history. Therefore, pursuant to 21 U.S.C. Sections 952(a) and 958(a), and in accordance with 21 CFR 1301.34, the above named company is granted registration as an importer of the basic classes of controlled substances listed.

Dated: September 20, 2005.
Joseph T. Rannazzisi,
Acting Deputy Assistant Administrator, Office of Diversion Control, Drug Enforcement Administration.

[FR Doc. 05-19192 Filed 9-26-05; 8:45 am]

BILLING CODE 4410-09-P